DEPARTMENT OF THE INTERIOR

Bureau of Land Management

[LLNVL05000.L17110000. DO0000. LXSSF2300000 MO# 4500090967]

Notice of Intent To Prepare a Resource Management Plan for Basin and Range National Monument, Nevada, and an Associated Environmental Impact Statement

AGENCY: Bureau of Land Management, Interior.

ACTION: Notice.

SUMMARY: In compliance with the National Environmental Policy Act of 1969, as amended (NEPA), and the Federal Land Policy and Management Act of 1976, as amended, the Bureau of Land Management (BLM) Ely District Office, Ely, Nevada intends to prepare a Resource Management Plan (RMP) with an associated Environmental Impact Statement (EIS) for the Basin and Range National Monument (BARNM) and by this notice is announcing the beginning of the scoping process to solicit public comments and identify issues. The new, stand-alone RMP will tier to and may incorporate by reference portions of the existing Ely District Record of Decision and Approved Resource Management Plan (2008), as amended by the Greater Sage-Grouse Approved Resource Management Plan Amendment signed in 2015.

DATES: This notice initiates the public scoping process for the RMP with associated EIS. Comments on issues may be submitted in writing until July 1, 2016. The date(s) and location(s) of any scoping meetings will be announced at least 15 days in advance through local media, newspapers and the BLM Web site at: http://www.blm.gov/nv/st/en/prog/nlcs_new/Basin_and_Range_National_Monument.htm.

In order to be included in the Draft EIS, all comments must be received prior to the close of the 30-day scoping period or 15 days after the last public meeting, whichever is later. Additional opportunities for public participation will be provided for upon publication of the Draft EIS.

ADDRESSES: You may submit comments on issues and planning criteria related to Basin and Range National Monument Resource Management Plan and associated Environmental Impact Statement by any of the following methods:

• Email: blm_nv_basin_range@blm.gov

• Fax: 775-726-8111

• Mail: BLM Basin and Range National Monument, PO Box 237, Caliente, NV 89008

Documents pertinent to this proposal may be examined at the Basin and Range National Monument Office, located at BLM Caliente Office.

FOR FURTHER INFORMATION CONTACT: Alicia Styles, Monument Manger; telephone: 775-726-8100; address: P.O. Box 237, Caliente, NV 89008; email: blm_nv_basin_range@blm.gov. Contact Ms. Styles to add your name to our mailing list. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This document provides notice that the BLM District Office, Ely, Nevada, intends to prepare an RMP with an associated EIS for the Basin and Range National Monument, announces the beginning of the scoping process, and seeks public input on issues and planning criteria. The planning area is located in Lincoln and Nye Counties, Nevada and encompasses approximately 704,000 acres of public land.

As the Proclamation indicates, the President established the Monument to “preserve its cultural, prehistoric, and historic legacy and maintain its diverse array of natural and scientific resources, ensuring that the prehistoric, historic and scientific values of this area remain for the benefit of all Americans.” The Proclamation further states: “For purposes of the care and management of the objects identified above, the Secretary, through BLM, shall, within 3 years of the date of this proclamation prepare and maintain a management plan for the monument and shall provide for maximum public involvement in the development of that plan including, but not limited to, consultation with State, tribal, and local governments.”

The purpose of the public scoping process is to determine relevant issues that will influence the scope of the environmental analysis, including alternatives, and guide the planning process. A number of preliminary issues for the planning area have been identified by BLM personnel; Federal, State, and local agencies; and other stakeholders. The issues include: Cultural and historic resources; tribal use; vegetation resources; wild horse and burros; social and economic values; climate change; special areas (Worthington Mountains Wilderness, Shooting Gallery Area of Environmental Concern (ACEC), and Mt. Irish ACEC); visual resources; lands and realty; outdoor recreation; livestock grazing; minerals; paleontological resources; research; wildland fire; and military uses. Preliminary planning criteria will conform to 43 CFR 1610.4-2.

You may submit comments on issues and planning criteria in writing to the BLM at any public scoping meeting, or you may submit them to the BLM using one of the methods listed in the ADDRESSES section above. To be most helpful, you should submit comments by the close of the 30-day scoping period or within 15 days after the last public meeting, whichever is later. Before including your address, phone number, email address, or other personal identifying information in your comment, you should be aware that your entire comment—including your personal identifying information—may be made publicly available at any time. While you can ask us in your comment to withhold your personal identifying information from public review, we cannot guarantee that we will be able to do so. The BLM will evaluate identified issues to be addressed in the plan, and will place them into one of three categories:

1. Issues to be resolved in the plan;

2. Issues to be resolved through policy or administrative action; or

3. Issues beyond the scope of this plan.

The BLM will provide an explanation in the Draft RMP/Draft EIS as to why an issue was placed in category two or three. The public is also encouraged to help identify any management questions and concerns that should be addressed in the plan. The BLM will work collaboratively with interested parties to identify the management decisions that are best suited to local, regional, and national needs and concerns.

The BLM will utilize and coordinate NEPA scoping process to help fulfil the public involvement process under Section 106 of the National Historic Preservation Act (NHPA) (16 U.S.C. 470(f)) pursuant to 36 CFR 800.2(d)(3). The information about historic and cultural resources within the area potentially affected by the proposed action will assist the BLM in identifying and evaluating impacts to such resources.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating, are invited to participate in the scoping process and, if eligible, may request or be requested by the BLM to participate in the development of the environmental analysis as a cooperating agency.

The BLM will use an interdisciplinary approach to develop the plan in order to consider the variety of resource issues and concerns identified. Specialists with expertise in the following disciplines will be involved in the planning process: archaeology, paleontology, outdoor recreation, wildlife and fisheries, rangeland management, lands and realty, hydrology, soils, minerals and geology, sociology and economics, wildland fire, and public affairs.

Authority: 40 CFR 1501.7, 43 CFR 1610.2.

John F. Ruhs,
State Director, Nevada.

[FR Doc. 2016-12938 Filed 5-31-16; 8:45 am]

BILLING CODE 4310-HC-P